DEPARTMENT OF ENERGY

Federal Energy Regulatory Commission

[Project No. 1417-246]

Central Nebraska Public Power and Irrigation District; Notice of Availability of Environmental Assessment

In accordance with the National Environmental Policy Act of 1969 and the Federal Energy Regulatory Commission's regulations, 18 CFR part 380 (Order No. 486, 52 FR 47879), the Office of Energy Projects has reviewed Central Nebraska Public Power and Irrigation District's proposed revised land and shoreline management plan (LSMP) for the Kingsley Dam Project, located on the North Platte and Platte Rivers in Garden, Keith, Lincoln, Gosper, and Dawson Counties, Nebraska, and has prepared an environmental assessment (EA) on the LSMP.

A copy of the EA is on file with the Commission and is available for public inspection. The EA also may be viewed on the Commission's Web site at http://www.ferc.gov using the “eLibrary” link. Enter the docket number (P-1417) in the docket number field to access the document. For assistance, contact FERC Online Support at FERCOnlineSupport@ferc.gov or toll-free at 1-866-208-3676, or for TTY, (202) 502-8659.

Any comments on the EA should be filed by June 13, 2011, and should be addressed to the Secretary, Federal Energy Regulatory Commission, 888 First Street, NE., Room 1-A, Washington, DC 20426. Please reference the project name and project number (P-1417-246) on all comments. Comments may be filed electronically via the Internet in lieu of paper. The Commission strongly encourages electronic filings. See 18 CFR 385.2001(a)(1)(iii) and the instructions on the Commission's Web site under the “eFiling” link. For further information, contact Rebecca Martin at (202) 502-6012 or by e-mail at Rebecca.martin@ferc.gov.

Dated: May 11, 2011.
Kimberly D. Bose,
Secretary.

[FR Doc. 2011-13834 Filed 6-8-11; 8:45 am]

BILLING CODE 6717-01-P